RAILROAD RETIREMENT BOARD

20 CFR Part 327

RIN 3220—AB75

Available for Work

AGENCY: Railroad Retirement Board.

ACTION: Interim final rule.

SUMMARY: The Railroad Retirement Board is amending the definition of “available for work” in its regulations in order to facilitate payment of unemployment benefits to railroad employees who are out of work due to the impact of the COVID-19 outbreak and subsequent declaration of a national emergency beginning March 1, 2020.

DATES: This final rule takes effect April 3, 2020.

ADDRESSES: Secretary to the Board, Railroad Retirement Board, 844 North Rush Street, Chicago, Illinois 60611-1275.

FOR FURTHER INFORMATION CONTACT: Marguerite P. Dadabo, Assistant General Counsel, Railroad Retirement Board, 844 North Rush Street, Chicago, Illinois 60611-1275, (312) 751-4945, TTD (312) 751-4701.

SUPPLEMENTARY INFORMATION: The Railroad Retirement Board pays unemployment benefits to unemployed railroad workers under the provisions of the Railroad Unemployment Insurance Act (45 U.S.C. 351 et seq.). One of the requirements for payment of a claim for unemployment benefits is that the claimant be “available for work.” The Board has defined that phrase in its regulations at Part 327. The Board is now revising that definition in order to address the handling of claims for railroad unemployment benefits caused by the COVID-19 pandemic.

On March 13, 2020, President Donald Trump issued a proclamation declaring that the COVID-19 outbreak in the United States constitutes a national emergency, beginning March 1, 2020. On March 14, 2020, the House of Representatives passed a bill, H.R. 6201, the Families First Coronavirus Response Act, which includes an expansion of unemployment benefit programs administered by the states. That bill was passed by the Senate and signed by the President on March 18, 2020. Consistent with the President's proclamation and the expansion of state unemployment benefits in the legislation, the Board is expanding the definition of “available for work” to address the surge in unemployment caused by the pandemic. The Board has determined that in order to meet the needs of the railroad industry and railroad employees, the definition of “available for work” must be modified in order to facilitate the payment of unemployment benefits to railroad employees who will be out of work because of state and local public health orders related to the coronavirus. In light of the President's declaration that the national emergency began March 1, 2020, the Board is issuing this rule as a final rule. If the Board were to invite public comment on a proposed rule, the goal of paying unemployment benefits as quickly as possible to otherwise eligible railroad employees could not be met. The Board thus finds for good cause that it is impracticable to invite public comment and in the public interest that unemployment claims of railroad employees be facilitated in this period of national emergency. 5 U.S.C § 553(b).

The Office of Management and Budget has determined that this is a significant regulatory action under Executive Order 12866, as amended. There are no changes to the information collections associated with Part 327.

List of Subjects in 20 CFR Part 327

Railroad employees, Railroad unemployment.

For the reasons set out in the preamble, the Railroad Retirement Board amends title 20, chapter II, subchapter C, part 327 of the Code of Federal Regulations as follows:

PART 327—AVAILABLE FOR WORK

1. The authority citation for part 327 continues to read as follows:

Authority: 45 U.S.C. 362(i), 362(l).

2. Amend § 327.5 by adding paragraph (d) to read as follows:

§ 327.5 Meaning of “available for work.”

* * * * *

(d) Deemed available for work. During the period extending from March 1, 2020 until December 31, 2020, a claimant will be deemed to be available for work during any period for which he or she is subject to a state or local order related to the public health emergency declared effective March 1, 2020 preventing him or her from reporting to work.

Dated: March 31, 2020.
By Authority of the Board.
Stephanie Hillyard,
Secretary to the Board.

[FR Doc. 2020-06975 Filed 4-3-20; 11:15 am]

BILLING CODE 7905-01-P